DEPARTMENT OF TRANSPORTATION

Federal Highway Administration

[Docket No. FHWA-2011-0036]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We published a Federal Register Notice with a 60-day public comment period on this information collection on December 29, 2010. We are required to publish this notice in the Federal Register by the Paperwork Reduction Act of 1995.

DATES: Please submit comments by June 24, 2011.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2011-0036.

FOR FURTHER INFORMATION CONTACT: Allen Greenberg at allen.greenberg@dot.gov or (202) 366-2425, Office of Operations, Federal Highway Administration, Department of Transportation, 1200 New Jersey Avenue, SE., Washington, DC 20590, Monday through Friday, except Federal holidays.

SUPPLEMENTARY INFORMATION: Title: Exploratory Advanced Research (EAR) Program initial stage research on the topic of Dynamic Ridesharing.

Background: The Exploratory Advanced Research (EAR) Program was established to conduct longer term, higher risk research that will result in potentially dramatic breakthroughs for improving the durability, efficiency, environmental performance, productivity, and safety of highway and intermodal transportation systems. To facilitate identification and assessment of higher-risk, breakthrough research topics, the Program conducts literature reviews, event scanning, and targeted convening. As part of an assessment of potential high-risk, breakthrough research on dynamic ridesharing, the EAR Program is conducting this collection of information on behavioral preferences using focus groups.

As a response to the opening of High Occupancy Vehicle (HOV) lanes in the Washington, D.C., metro area in the mid-1970s, a unique commuting phenomenon developed, commonly known as “slugging.” This type of single-trip dynamic carpooling evolved from drivers and passengers coming together to fulfill each party's needs (e.g., allowing drivers to meet HOV requirements and thus use the express travel lanes while riders receive a free, potentially faster trip to work). Academic and entrepreneurial types alike are looking at ways to facilitate dynamic ridesharing through technological means. Some suggestions for enhancing dynamic ridesharing include website forums that connect drivers with riders and Smartphone applications that would allow drivers and riders to register and connect with each other. These efforts build off of the success of three meeting-place based dynamic ridesharing systems that exist in Houston, San Francisco, and Washington, DC. The three systems have no formal leadership or management; rather they have evolved to fulfill a need for carpools created by the presence of HOV lanes. These naturally occurring dynamic ridesharing systems operate by having drivers and riders meet at central, easily accessible locations, such as park-and-ride lots where they create instantaneous carpools based on desired destinations. The sluglines are highly successful and have existed for a long time (30+ years in the case of DC.), and they are a critical component to these robust dynamic ridesharing systems which serve thousands of commuters each weekday. Despite their success and interesting nature, exploring dynamic ridesharing programs warrant further evaluation.

Focus group participants will be recruited based on a number of criteria. The primary factors are whether participants have utilized dynamic carpooling, the frequency of their use and whether they use dynamic ridesharing to commute to work. Participants would not be representing their place of work, and they would be asked to participate as members of the public on their own time outside of work hours.

Respondents: The Focus Group will send approximately 108 participants on a three-city tour (Washington, DC; San Francisco, CA; and Houston, TX) to study the informal, dynamic carpooling systems in each city. The government expects the contractor to recruit slugging/casual carpooling participants in each city.

Frequency: Annually

Estimated Average Burden per Response: There will be approximately 9 focus groups total (3 in each city); with each group consisting of 12 participants with a time commitment of 1.5 hours each person. The screening for potential participants will take approximately 5 minutes per person. There will be approximately 108 participants.

Estimated Total Annual Burden Hours: The annual burden for the Focus Group would be between 162 hours. The annual burden for screening participants will be 9 hours.

Annual Total = 171 hours.

Authority: The Paperwork Reduction Act of 1995; 44 U.S.C. Chapter 35, as amended; and 49 CFR 1.48.

Issued On: May 19, 2011.
Juli Huynh,
Chief, Management Programs and Analysis Division.

[FR Doc. 2011-12998 Filed 5-24-11; 8:45 am]

BILLING CODE 4910-22-P